DEPARTMENT OF ENERGY

Biomass Research and Development Technical Advisory Committee

AGENCY: Department of Energy, Office of Energy Efficiency and Renewable Energy.

ACTION: Notice of open meeting.

SUMMARY: This notice announces an open meeting of the Biomass Research and Development Technical Advisory Committee under the Biomass Research and Development Act of 2000. The Federal Advisory Committee Act (Pub. L. 92-463, 86 Stat. 770) requires that agencies publish these notices in the Federal Register to allow for public participation.

DATES: December 2, 2008 at 12:45 p.m. to 5 p.m., December 3, 2008 at 8 a.m. to 12:30 p.m.

ADDRESSES: DoubleTree Hotel—Directors Room, 1515 Rhode Island Avenue, NW., Washington, DC 20005-5595.

FOR FURTHER INFORMATION CONTACT: Valri Lightner, Designated Federal Official for the Committee, Office of Energy Efficiency and Renewable Energy, U.S. Department of Energy, 1000 Independence Avenue, SW., Washington, DC 20585; (202) 586-0937 or Carolyn Clark at (202) 586-8077; E-mail: cclark@bcs-hq.com.

SUPPLEMENTARY INFORMATION: Purpose of Meeting: To provide advice and guidance that promote research and development leading to the production of biobased fuels and biobased products.

Tentative Agenda: Agenda will include the following:

• Update on USDA Biofuels Activities.

• Update on DOE Biofuels Activities.

• Meeting with the Biomass R&D Board to discuss FY2008 Recommendations.

• Subcommittee/Interagency Working Group Report-Outs.

• Presentation on Office of Basic Energy Science Biofuels Activities and Budget.

• Presentation on National Science Foundation Biofuels Activities and Budget.

Public Participation: In keeping with procedures, members of the public are welcome to observe the business of the Biomass Research and Development Technical Advisory Committee. To attend the meeting and/or to make oral statements regarding any of the items on the agenda, you should contact Valri Lightner at 202-586-0937; E-mail: valri.lightner@ee.doe.gov or Carolyn Clark at (202) 586-8077; E-mail: cclark@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at http://www.brdisolutions.com/publications/default.aspx#meetings.

Issued at Washington, DC on October 29, 2008.
Rachel Samuel,
Deputy Committee Management Officer.

[FR Doc. E8-26249 Filed 11-3-08; 8:45 am]

BILLING CODE 6450-01-P